FARM CREDIT ADMINISTRATION

12 CFR Parts 614, 615, 620 and 628

RIN 3052-AD27

Regulatory Capital Rules: Tier 1/Tier 2 Framework

AGENCY: Farm Credit Administration.

ACTION: Notification of effective date.

SUMMARY: The Farm Credit Administration (FCA) issued a final rule to amend the regulatory capital requirements for Farm Credit System (System or FCS) institutions. The amendments clarified certain provisions in the Tier 1/Tier 2 Capital Framework and codified the guidance provided in an FCA bookletter.

DATES: Effective date: The final rule amending 12 CFR parts 614, 615, 620 and 628 published on October 1, 2021 (86 FR 54347), is effective on January 1, 2022.

FOR FURTHER INFORMATION CONTACT:

Technical information: Jeremy R. Edelstein, EdelsteinJ@fca.gov, Associate Director or Clayton D. Milburn, MilburnC@fca.gov, Senior Financial Analyst, Finance and Capital Markets Team, Office of Regulatory Policy, Farm Credit Administration, McLean, VA 22102-5090, (703) 883-4414, TTY (703) 883-4056 or ORPMailbox@fca.gov; or Legal information: Rebecca S. Orlich, Orlichr@fca.gov, Senior Counsel, or Jennifer A. Cohn, Cohnj@fca.gov, Assistant General Counsel, Office of General Counsel, Farm Credit Administration, McLean, VA 22102-5090, (703) 883-4020, TTY (703) 883-4056.

SUPPLEMENTARY INFORMATION: On October 1, 2021, FCA issued a final rule to amend the regulatory capital requirements for System institutions. The amendments clarified provisions in the Tier 1/Tier 2 Capital Framework, codified the guidance provided in FCA Bookletter BL-068, reduced administrative burden, and amended definitions pertaining to qualified financial contracts. In accordance with 12 U.S.C. 2252(c)(1), the final rule provided an effective date of the later to occur of January 1, 2022 or 30 days after the date of rule's publication in the Federal Register during which either or both Houses of Congress are in session. Based on the records of the sessions of Congress, the effective date of the regulation is January 1, 2022.

Dated: November 29, 2021.
Ashley Waldron,
Secretary, Farm Credit Administration.

[FR Doc. 2021-26173 Filed 12-1-21; 8:45 am]

BILLING CODE 6705-01-P